DEPARTMENT OF HOUSING AND URBAN DEVELOPMENT

[Docket No. FR-5752-C-33]

30-Day Notice of Proposed Information Collection: Owner's Certification With HUD Tenant Eligibility and Rent Procedures

AGENCY: Office of the Chief Information Officer, HUD.

ACTION: Correction, Notice.

SUMMARY: On March 31, 2014 at 79 FR 18047 HUD published a 30 day notice of proposed information collection. This notice replaces the notice published on March 31, 2014. HUD has submitted the proposed information collection requirement described below to the Office of Management and Budget (OMB) for review, in accordance with the Paperwork Reduction Act. The purpose of this notice is to allow for an additional 30 days of public comment.

DATES: Comments Due Date: May 7, 2014.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Lanier M. Hylton, Housing Program Manager, Office of Program Systems Management, Office of Multifamily Housing Programs, Department of Housing and Urban Development, 451 7th Street SW., Washington, DC 20410, telephone (202) 402-2510 (this is not a toll free number) for copies of the proposed forms and other available information.

Persons with hearing or speech impairments may access this number through TTY by calling the toll-free Federal Relay Service at (800) 877-8339. This is not a toll-free number. Copies of available documents submitted to OMB may be obtained from Mr. Hylton.

SUPPLEMENTARY INFORMATION: This notice informs the public that HUD has submitted to OMB a request for approval of the information collection described in Section A. The Federal Register notice that solicited public comment on the information collection for a period of 30 days was published on July 30, 2013.

A. Overview of Information Collection

1. HUD-Form Number, Title of Information Collection, and OMB Approval Number

Form No. | Title of information collection under No. 2502-0204
HUD-27061-H | Race and Ethnic Data Reporting Form.
HUD-50059 | Owner's Certification of Compliance with HUD's Tenant Eligibility and Rent Procedures.
HUD-50059-A | Owner's Certification of Compliance with HUD's Tenant Eligibility and Rent Procedures—Partial Certification.
HUD-90011 | Enterprise Income Verification (EIV) System Multifamily Housing Coordinator Access Authorization Form.
HUD-90012 | Enterprise Income Verification (EIV) System Multifamily Housing User Access Authorization Form.
HUD-90100 | Recertification Notice.
HUD-90101 | Certification of Long-Term Care Insurance.
HUD-90102 | Verification of Disability (202/811 PAC and PRAC Programs).
HUD-90103 | Verification of Disability (All Other Programs).
HUD-90104 | Exception to Limitations on Admission of families' 2502-0204.
HUD-90105a | Model Lease for Subsidized Programs.
HUD-90105b | Model Lease for Section 202 Program.
HUD-90105c | 202 PRAC Lease Supportive Housing for Elderly Program.
HUD-90105d | 811 PRAC Lease Supportive Housing for Elderly Program.
HUD-90106 | Move-In/Move Out Inspection Form.
HUD-91066 | Certification of Domestic Violence, dating, Violence or Stalking.
HUD-91067 | Lease Addendum—Violence, Dating Violence or Stalking.
HUD-9887/9887A | Document Package for Applicant's/Tenant's Consent to the Release of Information.

2. Description of the Need for the Information Collection and Proposed Use

HUD's Office of Multifamily Housing Programs needs to collect this information in order to establish an applicant's eligibility for admittance to subsidized housing, specify which eligible applicants may be given priority over others, and prohibit racial discrimination in conjunction with selection of tenants and unit assignments.

HUD must specify tenant eligibility requirements as well as how tenants' incomes, rents and assistance must be verified and computed so as to prevent HUD from making improper payments to owners on behalf of assisted tenants. HUD must also provide annual reports to Congress, Census Bureau and the public on the race/ethnicity and gender composition of HUD program beneficiaries. These information collections are essential to maintain a standard of fair practices in providing rental assistance to low-income families in HUD Multifamily properties.

a. These collections are authorized by the following statutes:

• Section 8 (42 U.S.C. 1437 et seq.).

• Rent Supplement (12 U.S.C. 1701s).

• Rental Assistance Payments (12 U.S.C. 1715z-1).

• Section 236 (12 U.S.C. 1172z-1).

• Section 221(d)(3) Below Market Interest Rate (12 U.S.C. 1715l).

• Title VI of the Civil Rights Act of 1964.

• Title VIII of the Civil Rights Act of 1968, as amended (Section 808).

• Executive Order 11063, Equal Opportunity in Housing.

• Social Security Numbers (42 U.S.C. 3543).

• Section 562 of the Housing and Community Development Act of 1987.

• Section 202 of the Housing Act of 1959, as amended.

• Section 811 of the National Affordable Housing Act of 1980.

• Computer Matching and Privacy Protection Act of 1988 (102 Statute 2507).

• Privacy Act of 1974 (5 U.S.C. 552a), Records Maintained on Individuals

• Quality Housing and Work Responsibility Act of 1998 (QHWRA)

• Section 658 of Title VI of Subtitle D of the Housing and Community Development Act of 1992.

• Executive Order 13520 of November 20, 2009, The Improper Payments Elimination and Recovery Act (IPERA)

• Executive Order 13515 of October 14, 2009, Increasing Participation of Asian Americans and Pacific Islanders in Federal Programs

b. These collections are covered by the following regulations:

• Section 8: 24 CFR Part 5, 24 CFR 880, 24 CFR 884, 24 CFR 886, 24 CFR 891 Subpart E.

• Section 236 and Rental Assistance Payments: 24 CFR 236.

• Section 221(d)(3): 24 CFR 221.

• Racial, Sex, Ethnic Data: 24 CFR 121.

• Nondiscrimination and Equal Opportunity in Housing: 24 CFR 107.

• Nondiscrimination in Federal Programs: 24 CFR 1.

• Social Security Numbers: 24 CFR Part 5.

• Procedures for Obtaining Wage and Claim Information Agencies: 24 CFR Part 760.

• Implementation of the Privacy Act of 1974: 24 CFR Part 16.

• Mandated use of HUD's Enterprise Income Verification (EIV) System: 24 CFR 5.233

3. Describe Respondents

The primary users of TRACS or its data outputs include:

Internal

• HUD Multifamily Housing 63 Field Offices

• HUD Headquarters Multifamily Housing Staff

• Office of the Chief Financial Officer (CFO)

• Office of Housing—Office of Finance and Accounting (OFA)

• Office of Chief Financial Officer—Office of Budget (OB)

• Office of Policy Development & Research (PD&R)

• Federal Housing Administration (FHA)/Comptroller's Office

• Departmental Enforcement Center (DEC)

• Real Estate Enforcement Center (REAC)

• Office of Multifamily Housing—Office of Affordable Housing

• HUD Office of the Inspector General (OIG)

External

• Performance Based Contract Administrators

• Contract Administrators

• Owners and Property Management Agents

• State Housing Finance Agencies

• Public Housing Authorities (PHA)

• The Government Accountability Office

• U.S. Census Bureau

• Office of Management and Budget (OMB)

• Congress/Public Requests (Under FOIA)

TRACS Industry Working Group

HUD established a working group in February 2012 to identify enhancements for TRACS Release 202D. The working group consists of 123 members from HUD Industry Partners (Contract Administrators, Occupancy Trainers, Owners, Property Management Agents, state housing finance agencies, and Occupancy Software Vendors) and HUD staff. The working group conducted eighteen work sessions to determine the requirements for TRACS Release 202D. During these sessions, forms relative to 2502-0204 were finalized for OMB forms approval (see Exhibit 1 for TRACS Industry Working Group Members.)

On January 14 and 15, 2014, HUD held the Quarterly TRACS Industry Meeting in Washington DC for approximately 130 Industry Partners (Contract Administrators, Owners/Agents, Service Bureaus, Trainers and Software Vendors). During the Industry Meeting, a special session was conducted where each form relative to 2502-0204 were presented to the attendees for open discussion. After the Industry Meeting, the Form Presentation was posted to the HUD TRACS Announcement Web page for review. On February 20, 2014, HUD held a Virtual Meeting with 115 Contract Administrators and HUD staff where the forms and TRACS 202D enhancements were presented followed by a question and answer period. No comments from the Quarterly TRACS Industry Meeting, Postings or Virtual Meeting resulted in changes to the forms being submitted to OMB for review and final approval.

HUD consulted with the following industry partners to discuss ways in which the burden to owners/management agents and tenants can be reduced and the impact these revised collections will have on the tenant certification and subsidy payment processes. After discussion, the conclusion was reached that these revised collections had been fully documented in the TRACS Monthly Activity Transaction (MAT) Guide and software vendors would have very little impact due to the fact that the requirements are already in place and the provision of HUD forms, notices, leases, etc., in lieu of using documents they or their software contractor have developed, ensures their compliance with the revised program requirements.

The new TRACS MAT Guide for TRACS 202(d) has been approved by industry partners and is located at: http://portal.hud.gov/hudportal/HUD?src=/program_offices/housing/mfh/trx/trxsum

TRACS Software Vendors

TRACS collections are 100% electronic, which required HUD to coordinate system development with 20 software firms through a defined system development lifecycle:

Company name | Point of contact | Business telephone number | E-Mail address
Bostonpost Technology | Jed Greaf | 440-409-2942 | jed.graef@mrisoftware.com.
BP Software | Ron Barlean | 800-344-7611 | ronbarlean@gmail.com.
CGI | Gregg Sargi | 216-416-6454 | gregg.sargi@cgifederal.com.
Emphasys Software | Paul Maltby | 800-899-4227 EXT 1102 | pmaltby@emphasys-software.com.
HAB | Jill Fularczyk | 608-785-4950 | jill.fularczyk@habinc.com.
Hopewell Software | Richard Hilton | 954-353-9242 | richard@hopewellsoftwaresolutions.com.
Housing Development Software | Charlene Vassil | 954-217-9597 EXT 218 | charlene.vassil@hdsoftware.com.
IPM Software | Dan Dulleba | 802-985-9319 | ddulleba@ipm-software.net.
Lindsey Software, Inc. | John Lindsey | 501-372-5324 | john_lindsey@lindseysoftware.com.
MultiSite Systems, LLC | Brent Lawrence | 888-409-5393 | brentl@multisitesystems.com.
PHA Web | Nathan Hoff | 608-784-0354 | nathan@pha-web.com.
PM Services, LLC | Maura Harris | 314-496-8005 | maura.harris@att.net.
Property Solutions | Janel Gamin | 801-375-5522 EXT 5729 | jganim@propertysolutions.com.
RealPage Inc. | Gaye Williamson | 972-820-3265 | gaye.williamson@realpage.com.
SACS Software | Grant Dark | 256-329-1205 | grant@sacssoftware.com.
ShofCorp LLC | Frank Shofner | 800-824-1657 EXT 31 | frank@shofcorp.com.
Simply Computer Software, Inc. | Craig Tinsley | 800-626-2431 EXT 3 | craig@simplycomputer.net.
Tenmast Software | Julie Rutherford | 877-359-5492 EXT 1406 | julier@tenmast.com.
Tracker Systems, Inc. | Stephen Vigeant | 508-485-4160 | steve@trackersys.com.
Yardi Systems, Inc. | Jenny Dyer | 770-729-0007 EXT 6265 | jenny.dyer@yardi.com.

TRACS 202(d) Development Lifecycle

Each of the 21 software vendors listed above agreed to systems development life cycle composed of the following defined and distinct work phases which are used by systems engineers and systems developers to plan for, design, build, test, and deliver information systems (includes all OMB approved data collections forms under 2502-0204):

• Preliminary analysis: The objective of phase 1 is to conduct a preliminary analysis, propose alternative solutions, describe costs and benefits and submit a preliminary plan with recommendations.

• Systems analysis, requirements definition: Defines project goals into defined functions and operation of the intended application and OMB approved forms.

• Systems design: Describes desired features and operations in detail, including screen layouts, business rules, process diagrams, pseudo-code and other documentation.

• Development: The real code is written here.

• Integration and testing: Brings all the pieces together into a special TRACS testing environment hosted within HUD's infrastructure, then TRACS checks each vendor's software for errors, bugs and interoperability.

• Acceptance, installation, deployment: The final stage of initial development, TRACS 202(d) Release software was put into production.

Note: The 21 software vendors listed above cannot implement TRACS 202(d) until OMB approves the HUD-Forms under collection number 2502-0204.

HUD Seeks Approval Not To Display the Expiration Date for OMB Approval of the Information Collection

All forms will be posted on HUD's Web site (www.hudclips.org) and will contain the OMB expiration date. However, HUD requests forms produced by automated systems not display or print the OMB expiration date.

HUD is seeking an extension not to display/print the expiration date on forms included in these information collections. To reduce this burden on Software Vendors, HUD is requesting an extension for Vendor software applications to reference/display the HUDCLIPS URL (www.hudclips.org). HUDCLIPS contains official HUD forms depicting the OMB expiration date and OMB control number. When OMB changes an expiration date on a form, HUD loads the form with the new expiration date onto HUDCIPS. Allowing Vendor's to use screens, facsimiles and reference HUDCLIPS eliminates the need for software vendors to change their existing applications to accommodate new OMB mandated expiration dates.

Whenever a HUD form changes or a new form is added, Industry Software Vendors must perform the software development life cycle phases (Analysis, Design, Development, Testing and Implementation, etc.) to ensure the change gets implemented at roughly 26,800 HUD Business Partner sites. With a number of HUD forms being relatively static, only the form expiration date changes over time. Software Vendors incur unnecessary cost when modifying their software applications to accommodate changing expiration dates. An expiration date change in vendor software adds no value.

4. Estimated Number of Respondents, Estimated Number of Responses, Frequency of Response, Average Hours per Response, and Total Estimated Burdens:

Form No. | Estimated number of respondents | Estimated number of responses | Frequency of response | Average hours per response | Total estimated burden
HUD-27061-H | 1,581,290 | 1,407,348 | 1 | .1667 | 234,605
HUD-50059 | 1,581,290 | 1,581,290 | Annually | .9667 | 1,528,633
HUD-50059-A | 475,299 | 475,299 | Varies | .25 | 118,825
HUD-90011 | 45,462 | 41,825 | Semi-Annually | .25 | 10,456
HUD-90012 | 45,462 | 41,825 | Semi-Annually | .25 | 10,456
HUD-90100 | 1,581,290 | 1,581,290 | Annually | .0667 | 105,472
HUD-90101 | 108 | 108 | Annually | .1667 | 18
HUD-90102 | 8,260 | 8,260 | 1 | .05 | 413
HUD-90103 | 17,614 | 17,614 | 1 | .05 | 881
HUD-90104 | 300 | 300 | Varies | .1667 | 50
HUD-91105a | 564,024 | 564,024 | 1 | .0833 | 47,002
HUD-90105b | 14,279 | 14,279 | 1 | .0833 | 1,189
HUD-90105c | 92,250 | 92,250 | 1 | .0833 | 7,684
HUD-90105d | 43,402 | 43,402 | 1 | .0833 | 3,615
HUD-90106 | 713,965 | 713,965 | 1 | .0667 | 47,621
HUD-91066 | 358 | 358 | 1 | .8333 | 298
HUD-91067 | 358 | 358 | 1 | .1667 | 60
HUD-9887/9887A | 713,965 | 713,965 | 1 | .25 | 178,491
Total | 7,478,976 | 7,297,760 |  |  | 2,295,769

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority Section 3507 of the Paperwork Reduction Act of 1995, 44 U.S.C. Chapter 35

Dated: April 1, 2014.
Colette Pollard,
Department Reports Management Officer, Office of the Chief Information Officer.

[FR Doc. 2014-07733 Filed 4-4-14; 8:45 am]

BILLING CODE 4210-67-P